NATIONAL COUNCIL ON DISABILITY

International Watch Advisory Committee Meeting (Conference Call)

AGENCY: National Council on Disability (NCD).

DATES: 12 noon, EST, November 21, 2002.

ADDRESSES: National Council on Disability, 1331 F Street, NW., Suite 850, Washington, DC.

Status: All parts of this meeting will be open to the public. Those interested in participating in the conference call should contact the appropriate staff member listed below. Due to limited resources, only a few telephone lines will be available for the conference call.

Agenda: Roll call, announcements, overview of accomplishments, planning for FY 2003, reports, new business, adjournment.

FOR FURTHER INFORMATION CONTACT: Joan Durocher, Attorney Advisor and Designated Federal Official, National Council on Disability, 1331 F Street NW, Suite 850, Washington, DC 20004; 202-272-2004 (voice), 202-272-2074 (TTY), 202-272-2022 (fax), jdurocher@ncd.gov (e-mail).

International Watch Advisory Committee Mission: The purpose of NCD's International Watch is to share information on international disability issues and to advise NCD on developing policy proposals that will advocate for a foreign policy that is consistent with the values and goals of the Americans with Disabilities Act.

Dated: October 1, 2002.
Ethel D. Briggs,
Executive Director.

[FR Doc. 02-25253 Filed 10-3-02; 8:45 am]

BILLING CODE 6820-MA-P